DEPARTMENT OF TRANSPORTATION

Surface Transportation Board

[STB Docket No. AB-31 (Sub-No. 37X)]

Grand Trunk Western Railroad Incorporated—Abandonment Exemption—in Oakland County, MI

On February 8, 2001, Grand Trunk Western Railroad Incorporated (GTW) filed with the Surface Transportation Board (Board), a petition under 49 U.S.C. 10502 from the provisions of 49 U.S.C. 10903 for GTW to abandon a line of railroad, referred to as the North Pontiac Spur, extending from milepost 2.39 to milepost 2.49/38.46, at Belt Junction on the Pontiac Belt Line; from milepost 2.49/38.46, at Belt Junction, to the end of track at milepost 37.7, near Joslyn Avenue on the Romeo Subdivision; and from milepost 2.75, at Belt Junction, to the end of track at milepost 1.25, near Montcalm Street on the Cass City Subdivision, a total distance of approximately 2.36 miles entirely within Pontiac, Oakland County, MI. The line traverses U.S. Postal Service Zip Code 48340 and includes no stations.

The line does not contain federally granted rights-of-way. Any documentation in the railroad's possession will be made available promptly to those requesting it.

The interest of railroad employees will be protected by the conditions specified in Oregon Short Line R. Co.—Abandonment—Goshen, 360 I.C.C. 91 (1979).

By issuance of this notice, the Board is instituting an exemption proceeding pursuant to 49 U.S.C. 10502(b). A final decision will be issued by May 29, 2001. GTW has requested expedited consideration of its petition and has requested that any decision granting its petition be effective, if possible, not later than 15 days after its service date.

Any offer of financial assistance will be due no later than 10 days after service of a decision granting the petition for exemption. Each offer must be accompanied by a $1,000 filing fee. See 49 CFR 1002.2(f)(25).

All interested parties should be aware that, following abandonment of rail service and salvage of the line, the line may be suitable for other public use, including interim trail use. Any request for a public use condition under 49 CFR 1152.28 or for trail use/rail banking under 49 CFR 1152.29 will be due no later than March 20, 2001. Each trail use request must be accompanied by a $150 filling fee. See 49 CFR 1002.2(f)(27).

All filings in response to this notice must refer to STB Docket No. AB-31 (Sub-No. 37X) and must be sent to: (1) Surface Transportation Board, Office of the Secretary, Case Control Unit, 1925 K Street, N.W., Washington, DC 20423-0001; and (2) Thomas J. Litwiler, Esq., Fletcher & Sippel LLC, Two Prudential Plaza, Suite 3125, 180 North Stetson Avenue, Chicago, IL 60601-6721. Replies to the petition are due on or before March 20, 2001.

Persons seeking further information concerning abandonment procedures may contact the Board's Office of Public Assistance at (202) 565-1592 or refer to the full abandonment regulations at 49 CFR part 1152. Questions concerning environmental issues may be directed to the Board's Section of Environmental Analysis (SEA) at (202) 565-1545. [TDD for the hearing impaired is available at 1-800-877-8339.] Any environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our website at WWW.STB.DOT.GOV.

Decided: February 14, 2001.
By the Board, David M. Konschnik, Director, Office of Proceedings.
Vernon A. Williams,
Secretary.

[FR Doc. 01-4391 Filed 2-27-01; 8:45 am]

BILLING CODE 4915-00-P